NATIONAL SCIENCE FOUNDATION

Privacy Act of 1974; System of Records

AGENCY: Office of the General Counsel, National Science Foundation.

ACTION: Notice of a new Privacy Act System of Records NSF-73: NSF Alert.

System Name: NSF Alert.

SUMMARY: In accordance with the requirements of the Privacy Act of 1974, as amended, 5 U.S.C. 552a, the National Science Foundation (NSF) gives notice of a new Privacy Act system of records: NSF Alert. The purpose of NSF Alert is to collect and maintain emergency contact information for current Federal employees, Intergovernmental Personnel Act employees (IPAs), selected guests and contractors of the National Science Foundation. The emergency contact information may contain personally identifiable information.

DATES: Effective Date: This action shall be effective without further notice on August 10, 2008, unless comments are received during or before this period that would result in a contrary determination.

Comments Due Date: Submit comments on or before August 10, 2008.

ADDRESSES: Address all comments concerning this notice to Leslie Jensen, National Science Foundation, Office of the General Counsel, Room 1265, 4201 Wilson Boulevard, Arlington, Virginia 22230 or by sending electronic mail (e-mail) to ljensen@nsf.gov.

SUPPLEMENTARY INFORMATION: This publication is in accordance with the Privacy Act requirement that agencies publish a new system of records in the Federal Register.

Submit comments as an ASCII file avoiding the use of special characters and any form of encryption. Identify all comments sent in electronic E-mail with Subject Line: Comments on new system.

FOR FURTHER INFORMATION CONTACT: Leslie Jensen (703) 292-5065.

Dated: July 3, 2008.
Lawrence Rudolph,
General Counsel.

National Science Foundation

SYSTEM NAME:

NSF Alert (NSF-73).

SYSTEM LOCATION:

National Science Foundation, 4201 Wilson Blvd, Arlington, VA 22230.

CATEGORIES OF INDIVIDUALS COVERED BY THE SYSTEM:

Employees, IPAs, selected guests and agency contractors.

CATEGORIES OF RECORDS IN THE SYSTEM:

Name, directorate/division, work and personal electronic mail addresses, work telephone number, home and cellular telephone numbers, work fax and Blackberry phone numbers, pager and any SMS device they want to provide.

AUTHORITY FOR MAINTENANCE OF THE SYSTEM:

5 U.S.C. 301 and Executive Order 12656 of Nov. 18, 1988 on Assignment of Emergency Preparedness Responsibilities.

PURPOSE OF THE SYSTEM:

The purpose of this system of records is to maintain emergency contact information for current employees, IPAs, selected guests and contractors of the National Science Foundation. The system provides for high-speed message delivery that reaches all NSF personnel in response to threat alerts issued by the Department of Homeland Security, weather related emergencies, or other critical situations that disrupt the operations and accessibility of a worksite. The system also provides for personnel accountability during an emergency, through personnel sign-in and rapid alert and notification.

ROUTINE USES OF RECORDS MAINTAINED IN THE SYSTEM, INCLUDING CATEGORIES OF USERS AND THE PURPOSES OF SUCH USES:

1. Information from the system may be disclosed to any Federal government authority for the purpose of coordinating and reviewing agency continuity of operations plans or emergency contingency plans developed for responding to Department of Homeland Security threat alerts, weather related emergencies, or other critical situations.

2. Disclosure may be made to a Congressional office from the record of an individual in response to an inquiry from the Congressional office made at the request of that individual.

3. Information from the system may be disclosed to contractors, grantees, volunteers, experts, advisors, and other individuals who perform a service to or work on or under a contract, grant, cooperative agreement, advisory committee, committee of visitors, or other arrangement with or for the Federal government, as necessary to carry out their duties in pursuit of the purposes described above. The contractors are subject to the provisions of the Privacy Act.

4. Information from the system may be merged with other computer files in order to carry out statistical studies or otherwise assist NSF with program management, evaluation, and reporting. Disclosure may be made for this purpose to NSF contractors and collaborating researchers, other Government agencies, and qualified research institutions and their staffs. Disclosures are made only after scrutiny of research protocols and with appropriate controls. The results of such studies are statistical in nature and do not identify individuals.

5. Information from the system may be disclosed to the Department of Justice or the Office of Management and Budget for the purpose of obtaining advice on the application of the Freedom of Information Act or Privacy Act to the records.

6. Information from the system may be given to another Federal agency, a court, or a party in litigation before a court or in an administrative proceeding being conducted by a Federal agency when the Government is a party to the judicial or administrative proceeding.

7. Information from the system may be given to the Department of Justice, to the extent disclosure is compatible with the purpose for which the record was collected and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

8. Records from this system may be disclosed to representatives of the General Services Administration and the National Archives and Records Administration who are conducting records management inspections under the authority of 44 U.S.C. 2904 and 2906.

9. Information from the system may be given to appropriate agencies, entities, and persons when (1) the NSF suspects or has confirmed that the security or confidentiality of information in the system of records has been compromised; (2) the NSF has determined that as a result of the suspected or confirmed compromise there is a risk of harm to economic or property interests, identity theft or fraud, or harm to the security or integrity of this system or other systems or programs (whether maintained by the NSF or another agency or entity) that rely upon the compromised information; and (3) the disclosure made to such agencies, entities, and persons is reasonably necessary to assist in connection with the NSF's efforts to respond to the suspected or confirmed compromise and prevent, minimize, or remedy such harm.

POLICIES AND PRACTICES FOR STORING, RETRIEVING, ACCESSING, RETAINING, AND DISPOSING OF RECORDS IN THE SYSTEM:

STORAGE:

Records are maintained in a computerized database.

RETRIEVABILITY:

Records may be retrieved by the individual's name and work e-mail.

SAFEGUARDS:

Records are safeguarded by restricted computer user ids and passwords. Access to the records is restricted to those who require the records in the performance of official duties related to the purposes for which the system is maintained.

RETENTION AND DISPOSAL:

Periodic purging and disposal of those records concerning individuals who are no longer employees, IPAs, guests or select contractors of the National Science Foundation. Otherwise, records are retained and disposed of in accordance with the appropriate National Archives and Records Administration General Records Schedules.

SYSTEM MANAGER(S) AND ADDRESS:

National Science Foundation, Director, Division of Administrative Services, 4201 Wilson Blvd, Room 295, Arlington, VA 22230.

NOTIFICATION PROCEDURES:

All requests to determine whether this system of records contains a record pertaining to the requesting individual may be directed to the Privacy Act Officer, Office of the General Counsel, 4201 Wilson Blvd, Arlington, VA 22230.

RECORD ACCESS PROCEDURES:

Persons wishing to obtain information on the procedures for gaining access to or contesting the contents of this record may contact the Privacy Act Officer, Office of the General Counsel, 4201 Wilson Blvd, Arlington, VA 22230.

CONTESTING RECORDS PROCEDURES:

See record access procedures above.

RECORD SOURCE CATEGORIES:

Information is provided by current employees, IPAs, guests and selected contractors of the National Science Foundation.

EXEMPTIONS CLAIMED FOR THE SYSTEM:

None.

[FR Doc. E8-15693 Filed 7-9-08; 8:45 am]

BILLING CODE 7555-01-P